DEPARTMENT OF LABOR

Employment and Training Administration

[TA-W-55,375]

JP Morgan Chase & Company, Credit Card Services, Customer Service and Collections Departments, Hicksville, NY; Notice of Termination of Investigation

Pursuant to section 221 of the Trade Act of 1974, as amended, an investigation was initiated on August 4, 2004 in response to a petition filed on behalf of workers at JP Morgan Chase & Company, Credit Card Services, Customer Service and Collections Departments, Hicksville, NY. Workers at the subject firm performed customer service and collections functions for the subject firm's customers.

The Department of Labor issued a negative determination applicable to the petitioning group of workers on July 1, 2004 (TA-W-55,375). No new information or change in circumstances is evident which would result in a reversal of the Department's previous determination. Consequently, further investigation would serve no purpose, and the investigation has been terminated.

Signed at Washington, DC this 8th day of September 2004.
Richard Church,
Certifying Officer, Division of Trade Adjustment Assistance.

[FR Doc. E4-2336 Filed 9-22-04; 8:45 am]

BILLING CODE 4510-30-P